DEPARTMENT OF THE INTERIOR

Bureau of Land Management

[LLWO2600000 L10600000 XQ0000]

Wild Horse and Burro Advisory Board; Meeting

AGENCY: Bureau of Land Management, Interior.

ACTION: Announcement of meeting.

SUMMARY: The Bureau of Land Management (BLM) announces that the Wild Horse and Burro Advisory Board will conduct a meeting on matters pertaining to management and protection of wild, free-roaming horses and burros on the Nation's public lands.

DATES: The Advisory Board will meet on Thursday, March 10, 2011, from 1 p.m. to 5 p.m. and on Friday, March 11, 2011 from 8 a.m. to 5 p.m., local time. This will be a 2-day meeting.

ADDRESSES: This Advisory Board meeting will take place in Phoenix, Arizona at the Sheraton Phoenix Downtown Hotel, 340 N. 3rd Street, Phoenix, Arizona, 85004. The hotel phone number for reservations is 602-817-5307.

Written comments pertaining to the March 10-11, 2011 Advisory Board meeting can be mailed to National Wild Horse and Burro Program,WO-260, Attention: Ramona DeLorme, 1340 Financial Boulevard, Reno, Nevada 89502-7147, or sent electronically to the BLM through the Wild Horse and Burro Web site at: http://www.blm.gov/wo/st/en/prog/wild_horse_and_burro/wh_b_contact_us/enhanced_feedback_form.html). All comments should be submitted no later than close of business March 3, 2011.

FOR FURTHER INFORMATION CONTACT: Ramona DeLorme, Wild Horse and Burro Administrative Assistant, at 75-861-6583. Individuals who use a telecommunications device for the deaf (TDD) may reach Ms. DeLorme at any time by calling the Federal Information Relay Service at 1-800-877-8339.

SUPPLEMENTARY INFORMATION: Under the authority of 43 CFR part 1784, the Wild Horse and Burro Advisory Board advises the Secretary of the Interior, the Director of the BLM, the Secretary of Agriculture, and the Chief of the U.S. Forest Service, on matters pertaining to the management and protection of wild, free-roaming horses and burros on the Nation's public lands. The tentative agenda for the 2-day event is:

I. Advisory Board Public Meeting

Thursday, March 10, 2011 (1 p.m.—5 p.m.)

1 p.m. Call to Order & Introductions

Old Business

Approval of June 15, 2010 Minutes

Program Updates

Gathers

Adoptions

Budget

Facilities

Break (2:20 p.m.—2:45 p.m.)

2:45 p.m. Program Updates (continued)

5 p.m. Adjourn

II. Public Meeting Continued

Friday, March 11, 2011 (8 a.m.—5 p.m.)

8 a.m. WH&B Proposed Management Strategy Overview

9 a.m. Public Comments on WH&B Program and Proposed Strategy

Lunch (12 p.m.—1 p.m.)

1 p.m. Board Recommendations

Recap/Summary/Next Meeting/Date/Site

5 p.m. Adjourn

The meeting site is accessible to individuals with disabilities. An individual with a disability needing an auxiliary aid or service to participate in the meeting, such as an interpreting service, assistive listening device, or materials in an alternate format, must notify the person listed under FOR FURTHER INFORMATION CONTACT 2 weeks before the scheduled meeting date. Although the BLM will attempt to meet a request received after that date, the requested auxiliary aid or service may not be available because of insufficient time to arrange it.

The Federal Advisory Committee Management Regulations [41 CFR 101-6.1015(b),] require BLM to publish in the Federal Register notice of a meeting 15 days prior to the meeting date.

III. Public comment procedures

On Friday, March 11, 2011, members of the public will have the opportunity to make comments to the Board on the Wild Horse and Burro Program and Proposed Strategy from 9 am to noon local time. Persons wishing to make comments during the Friday meeting should register with the BLM by 8:30 am on March 11, 2011, in person, at the meeting location. Depending on the number of comments, the Advisory Board may limit the length of comment. At previous meetings, comments have been limited to 3 minutes in length; however, this time may vary. Commenters should address the specific wild horse and burro-related topics listed on the agenda. Speakers must submit a written copy of their statement to the address listed in the ADDRESSES section or bring a written copy to the meeting.

Participation in the Advisory Board meeting is not a prerequisite for submission of written comments. The BLM invites written comments from all interested parties. Your written comments should be specific and explain the reason for any recommendation. The BLM appreciates any and all comments, but those most useful and likely to influence decisions on management and protection of wild horses and burros are those that are either supported by quantitative information or studies or those that include citations to and analysis of applicable laws and regulations. The BLM will not necessarily consider comments received after the time indicated under the DATES section or at locations other than that listed in the ADDRESSES section.

In the event there is a request under the Freedom of Information Act (FOIA) for a copy of your comments, the BLM will make them available in their entirety, including your name and address. Before including your address, phone number, e-mail address, or other personal identifying information in your comment, you should be aware that your entire comment—including your personal identifying information—may be made publicly available at any time. While you can ask us in your comment to withhold your personal identifying information from public review, we cannot guarantee that we will be able to do so. The BLM will release all submissions from organizations or businesses, and from individuals identifying themselves as representatives or officials of organizations or businesses, in their entirety, including names and addresses.

Dated: February 3, 2011.
Edwin L. Roberson,
Assistant Director, Renewable Resources and Planning.

[FR Doc. 2011-2788 Filed 2-8-11; 8:45 am]

BILLING CODE 4310-84-P